DEPARTMENT OF COMMERCE

National Oceanic and Atmospheric Administration

RIN 0648-XC759

Atlantic Highly Migratory Species; Meeting of the Atlantic Highly Migratory Species Advisory Panel

AGENCY: National Marine Fisheries Service (NMFS), National Oceanic and Atmospheric Administration (NOAA), Commerce.

ACTION: Notice of public meeting.

SUMMARY: NMFS will hold a 4-day Atlantic Highly Migratory Species (HMS) Advisory Panel (AP) meeting in September 2013. The intent of the meeting is to consider options for the conservation and management of Atlantic HMS. The meeting is open to the public.

DATES: The AP meeting will be held September 9 through September 12, 2013.

ADDRESSES: The meeting will be held at the Sheraton Hotel, 8777 Georgia Avenue, Silver Spring, MD 20910.

FOR FURTHER INFORMATION CONTACT: Jenni Wallace or Margo Schulze-Haugen at (301) 427-8503.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any Fishery Management Plan (FMP) or FMP amendment for Atlantic HMS. NMFS consults with and considers the comments and views of AP members when preparing and implementing FMPs or FMP amendments for Atlantic tunas, swordfish, billfish, and sharks.

The AP has previously consulted with NMFS on: Amendment 1 to the Billfish FMP (April 1999); the HMS FMP (April 1999); Amendment 1 to the HMS FMP (December 2003); the Consolidated HMS FMP (October 2006); Amendments 1, 2, 3, 4, 5a, 5b, 6, 7, and 8 to the Consolidated HMS FMP (April and October 2008, February and September 2009, May and September 2010, April and September 2011, March and September 2012, and January 2013); among other things.

At the September 2013 AP meeting, NMFS plans to discuss bluefin tuna management issues in draft Amendment 7 to the 2006 HMS FMP; shark management measures regarding rebuilding scalloped hammerhead and blacknose sharks (Amendment 5a), rebuilding dusky sharks (Amendment 5b), and shark catch shares (Amendment 6); and swordfish management measures (Amendment 8). The meeting will also include updates on implementation of the 2012 ICCAT recommendations; electronic dealer reporting; smoothhound shark management; and recreational monitoring methods for Atlantic HMS fisheries.

The AP meeting will be held from 9 a.m. to 5:30 p.m. on Monday, September 9; from 8:30 a.m. to 5:30 p.m. on Tuesday, September 10; from 8:30 a.m. to 4:30 p.m. on Wednesday, September 11; and from 8:30 a.m. to 12:00 p.m. on Thursday, September 12, 2013. Additional information on the meeting and a copy of the draft agenda will be posted prior to the meeting at: http://www.nmfs.noaa.gov/sfa/hms/Advisory%20Panels/Advisory_Panel.htm.

Special Accommodations

This meeting is physically accessible to people with disabilities. Requests for sign language interpretation or other auxiliary aids should be directed to Jenni Wallace at (301) 427-8503 at least 7 days prior to the meeting.

Dated: July 18, 2013.
Kelly Denit,
Acting Deputy Director, Office of Sustainable Fisheries, National Marine Fisheries Service.

[FR Doc. 2013-17692 Filed 7-22-13; 8:45 am]

BILLING CODE 3510-22-P